DEPARTMENT OF COMMERCE

International Trade Administration

[A-583-854]

Certain Steel Nails From Taiwan: Partial Rescission of Antidumping Duty Administrative Review; 2019-2020

AGENCY: Enforcement and Compliance, International Trade Administration, Department of Commerce.

SUMMARY: The Department of Commerce (Commerce) is rescinding the administrative review, in part, of the antidumping duty order on certain steel nails from Taiwan for the period July 1, 2019 through June 30, 2020.

DATES: Applicable December 10, 2020.

FOR FURTHER INFORMATION CONTACT: Irene Gorelik, AD/CVD Operations, Office VIII, Enforcement and Compliance, International Trade Administration, Department of Commerce, 1401 Constitution Avenue NW, Washington, DC 20230; telephone: (202) 482-6905.

SUPPLEMENTARY INFORMATION:

Background

On September 3, 2020, based on timely requests for review by Mid Continent Steel & Wire, Inc. (the petitioner), a domestic producer and interested party,¹ and nine Taiwanese companies,² Commerce published in the Federal Register a notice of initiation of an administrative review of the antidumping duty order on certain steel nails from Taiwan covering 141 companies and the period July 1, 2019 through June 30, 2020.³

¹ See Petitioner's Letter, “Request for Administrative Review,” dated July 31, 2020 (Petitioner's Review Request).

² See Letter, “Administrative Review Request,” dated July 31, 2020, collectively from: Liang Chyuan Industrial Co., Ltd., Romp Coil Nail Industries Inc., UJL Industries Co., Ltd., Hor Liang Industrial Corp., Yu Chi Hardware Co., Ltd., Trim International Inc., China Staple Enterprise Corporation, Hoyi Plus Co., Ltd., and Zon Mon Co., Ltd.

³ See Initiation of Antidumping and Countervailing Duty Administrative Reviews, 85 FR 54983 (September 3, 2020) (Initiation Notice). As the Petitioner's Review Request included three instances of duplicated company names, Commerce only counted the duplicated company names one time upon initiation, with the exception of Yu Chi Hardware Co., Ltd. which the petitioner listed twice and was also inadvertently listed twice in the Initiation Notice.

On September 21, 2020, the petitioner timely withdrew its request for administrative review of all companies originally requested, except for one company, Create Trading Co., Ltd.⁴ As noted above, nine Taiwanese companies also self-requested an administrative review. On October 15, 2020, pursuant to 19 CFR 351.213(d)(1), Commerce rescinded the administrative review, in part, of all companies under review except for Create Trading Co., Ltd. and the nine companies that self-requested an administrative review and for which their requests for review had not been withdrawn at that time.⁵ Subsequently, on November 30, 2020, the nine Taiwanese companies timely withdrew their requests for review.⁶

⁴ See Petitioner's Letter, “Withdrawal of Request for Administrative Reviews,” dated September 21, 2020.

⁵ See Certain Steel Nails From Taiwan: Partial Rescission of Antidumping Duty Administrative Review; 2019-2020, 85 FR 65366 (October 15, 2020) (First Partial Rescission).

⁶ See Letter, “Withdrawal of Administrative Review Request,” dated November 30, 2020, collectively from: Liang Chyuan Industrial Co., Ltd., Romp Coil Nail Industries Inc., UJL Industries Co., Ltd., Hor Liang Industrial Corp., Yu Chi Hardware Co., Ltd., Trim International Inc., China Staple Enterprise Corporation, Hoyi Plus Co., Ltd., and Zon Mon Co., Ltd.

Partial Rescission of Review

Pursuant to 19 CFR 351.213(d)(1), Commerce will rescind an administrative review, in whole or in part, if the party that requested the review withdraws its request within 90 days of the publication of the notice of initiation of the requested review. Because all requests for administrative review of the nine companies that self-requested review were withdrawn within 90 days of the date of publication of the Initiation Notice and no other interested party requested a review of these nine companies, in accordance with 19 CFR 351.213(d)(1), Commerce is rescinding this review with respect to these companies: (1) China Staple Enterprise Corporation, (2) Hor Liang Industrial Corp., (3) Hoyi Plus Co., Ltd., (4) Liang Chyuan Industrial Co., Ltd., (5) Romp Coil Nail Industries Inc., (6) Trim International Inc., (7) UJL Industries Co., Ltd., (8) Yu Chi Hardware Co., Ltd., and (9) Zon Mon Co., Ltd.

The administrative review remains active only with respect to Create Trading Co., Ltd., which has filed a certification of no reviewable sales.⁷

⁷ See Create Trading Co., Ltd.'s Letter, “Statement of No Sales to the United States,” dated September 21, 2020.

Assessment

Commerce will instruct U.S. Customs and Border Protection (CBP) to assess antidumping duties on all appropriate entries at a rate equal to the cash deposit of estimated antidumping duties required at the time of entry, or withdrawal from warehouse, for consumption, during the period July 1, 2019 through June 30, 2020, in accordance with 19 CFR 351.212(c)(1)(i). Commerce intends to issue appropriate assessment instructions to CBP 15 days after the publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: December 7, 2020.
James Maeder,
Deputy Assistant Secretary for Antidumping and Countervailing Duty Operations.

[FR Doc. 2020-27146 Filed 12-9-20; 8:45 am]

BILLING CODE 3510-DS-P